DEPARTMENT OF COMMERCE

International Trade Administration

[A-533-904, A-542-804, A-549-844, A-489-846]

Certain Steel Nails From India, Sri Lanka, Thailand, and the Republic of Turkey: Postponement of Preliminary Determinations in the Less-Than-Fair-Value Investigations

AGENCY: Enforcement and Compliance, International Trade Administration, Department of Commerce.

DATES: Applicable May 20, 2022.

FOR FURTHER INFORMATION CONTACT: David Lindgren (India), Allison Hollander (Sri Lanka), Laurel LaCivita and Matthew Palmer (Thailand), or David Crespo (Republic of Turkey (Turkey)), AD/CVD Operations, Office I, II, or III, Enforcement and Compliance, International Trade Administration, U.S. Department of Commerce, 1401 Constitution Avenue NW, Washington, DC 20230; telephone: (202) 482-1671, (202) 482-2805, (202) 482-4243, (202) 482-1678, or (202) 482-3693, respectively.

SUPPLEMENTARY INFORMATION:

Background

On January 19, 2022, the U.S. Department of Commerce (Commerce) initiated less-than-fair-value (LTFV) investigations of imports of certain steel nails (steel nails) from India, Sri Lanka, Thailand, and Turkey.¹ Currently, the preliminary determinations are due no later than June 8, 2022.

¹ See Certain Steel Nails from India, Sri Lanka, Thailand, and the Republic of Turkey: Initiation of Less-Than-Fair-Value Investigations, 87 FR 3965 (January 26, 2022).

Postponement of Preliminary Determinations

Section 733(b)(1)(A) of the Tariff Act of 1930, as amended (the Act), requires Commerce to issue the preliminary determination in an LTFV investigation within 140 days of the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On May 9, 2022, Mid Continent Steel & Wire, Inc. (the petitioner) submitted a timely request that Commerce postpone the preliminary determinations in these LTFV investigations.² The petitioner stated that it requests postponement because: (1) Commerce has not yet received complete responses to its initial and supplemental questionnaires from the respondents in these investigations; and (2) the petitioner has identified deficiencies in the responses already provided by the respondents that must be remedied prior to Commerce's issuance of its preliminary determinations.³

² See Petitioner's Letter, “Certain Steel Nails from India, Sri Lanka, Thailand and Turkey—Petitioner's Request for Postponement of Preliminary Determinations,” dated May 9, 2022.

³ Id.

For the reasons stated above, and because there are no compelling reasons to deny the request, Commerce, in accordance with section 733(c)(1)(A) of the Act and 19 CFR 351.205(e), is postponing the deadline for these preliminary determinations by 50 days (i.e., 190 days after the date on which these investigations were initiated). As a result, Commerce will issue its preliminary determinations no later than July 28, 2022. In accordance with section 735(a)(1) of the Act and 19 CFR 351.210(b)(1), the deadline for the final determinations in these investigations will continue to be 75 days after the date of the preliminary determinations, unless postponed at a later date.

Notification to Interested Parties

This notice is issued and published pursuant to section 733(c)(2) of the Act and 19 CFR 351.205(f)(1).

Dated: May 16, 2022.
Lisa W. Wang,
Assistant Secretary for Enforcement and Compliance.

[FR Doc. 2022-10934 Filed 5-19-22; 8:45 am]

BILLING CODE 3510-DS-P